DEPARTMENT OF THE INTERIOR

Bureau of Land Management

[WY-920-1430-ET; WYW 167436]

Notice of Proposed Withdrawal and Opportunity for Public Meeting; Wyoming

AGENCY: Bureau of Land Management, Interior.

ACTION: Notice.

SUMMARY: The Secretary of the Interior proposes to withdraw 40 acres of public land from surface entry and mining on behalf of the Bureau of Land Management to protect the Parting of the Ways Historic Site in Sweetwater County. This notice segregates the land for up to 2 years from surface entry and mining while various studies and analyses are made to support a final decision on the withdrawal application. The land will remain open to the mineral leasing laws.

DATES: Comments and requests for a public meeting must be received by February 23, 2009.

ADDRESSES: Comments and meeting requests should be sent to the BLM Wyoming State Director, P.O. Box 1828, Cheyenne, Wyoming 82003-1828.

FOR FURTHER INFORMATION CONTACT: Janelle Wrigley, BLM Wyoming State Office, by calling 307-775-6257, or at the above address, or Teri Deakins, BLM Rock Springs Field Office, 280 Highway 191 North, Rock Springs, Wyoming 82901 or by calling 307-352-0211.

SUPPLEMENTARY INFORMATION: The applicant is the Bureau of Land Management at the address above and its petition/application requests the Secretary of the Interior to withdraw, subject to valid existing rights, the following described public land from settlement, sale, location, or entry under the general land laws, including the mining laws, but not the mineral leasing laws:

Sixth Principal Meridian

T. 26 N., R. 104 W.,

sec. 4, W½SW¼NE¼ and E½SE¼NW¼.

The area described contains 40 acres in Sweetwater County.

The Bureau of Land Management's petition/application has been approved by the Assistant Secretary, Land and Minerals Management; therefore, it constitutes a withdrawal proposal of the Secretary of the Interior.

The purpose of the proposed withdrawal is to protect the archeological, historical, geological, and recreational values of the Parting of the Ways Historic Site for a 20-year period.

The use of a right-of-way, interagency, or cooperative agreement, or surface management under 43 CFR 3809 regulations would not adequately constrain nondiscretionary uses which could result in permanent loss of significant values and irreplaceable resources at the site.

There are no suitable alternative sites since the land described herein contains the resource values that need protection.

No water rights would be needed to fulfill the purpose of the requested withdrawal.

Records relating to the application may be examined by contacting Janelle Wrigley at the above address or by calling 307-775-6257 or Teri Deakins, BLM Rock Springs Field Office, 280 Highway 191 North, Rock Springs, Wyoming 82901 or by calling 307-352-0211.

For a period of 90 days from the date of publication of this notice, all persons who wish to submit comments, suggestions, or objections in connection with the proposed withdrawal application may present their views in writing to the BLM Wyoming State Director at the address noted above.

Comments including names and street addresses of respondents, will be available for public review at the BLM Rock Springs Field Office, 280 Highway 191 North, Rock Springs, Wyoming 82901, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the BLM Wyoming State Director no later than February 23, 2009. If the authorized officer determines that a public meeting will be held, a notice of the time and place will be published in the Federal Register and a local newspaper at least 30 days before the scheduled date of the meeting.

This application will be processed in accordance with the regulations set forth in 43 CFR 2310.1-2.

For a period of 2 years from the date of publication of this notice in the Federal Register , the land will be segregated as specified above unless the application is denied or canceled or the withdrawal is approved prior to that date. Licenses, permits, cooperative agreements, or discretionary land use authorizations of a temporary nature which would not impact the site may be allowed with the approval of an authorized officer of the BLM during the segregative period.

Authority: 43 CFR 2310.3-1.

Dated: November 17, 2008.
Michael Madrid,
Chief, Branch of Fluid Mineral, Operations, Lands and Appraisal.

[FR Doc. E8-27804 Filed 11-21-08; 8:45 am]

BILLING CODE 4310-22-P